DEPARTMENT OF ENERGY

Federal Energy Regulatory Commission

[Docket No. RP96-359-007]

Transcontinental Gas Pipe Line Corporation; Notice of Negotiated Rate Contracts

January 23, 2002.

Take notice that on January 15, 2002 Transcontinental Gas Pipe Line Corporation (Transco) tendered for filing with the Federal Energy Regulatory Commission (Commission) copies of executed service agreements that contain a negotiated rate under Rate Schedule FT applicable to Public Service Electric & Gas Company (PSE&G) and Williams Energy Marketing & Trading Company (WEM&T) of the MarketLink Expansion Project Phase I customers. These service agreements are the result of the permanent capacity release of a previously filed and reviewed Phase I MarketLink service agreement containing a negotiated rate. The effective date of the permanent capacity release and therefore these negotiated rate transactions is December 19, 2001.

Transco states that the purpose of the instant filing is to reflect one of the MarketLink Expansion Project customers, WEM&T, permanently released, effective December 19, 2001, 50,000 dt per day of its 100,000 dt per day of firm Phase 1 MarketLink capacity to PSE&G at the same negotiated rate and primary term. The permanent release of firm MarketLink capacity was effectuated pursuant to Section 42.12 of the General Terms and Conditions of Transco's FERC Gas Tariff. Accordingly, Transco hereby files with the Commisison the negotiated rate agreements under Rate Schedule FT applicable to WEM&T and PSE&G to reflect this permanent capacity release.

Transco states that copies of the filing are being mailed to its affected customers and interested State Commissions. In accordance with the provisions of Sections 154.2(d) of the Commission's Regulations, copies of this filing are available for public inspection, during regular business hours in a convenient form and place at Transco's main offices at 2800 Post Oak Boulevard in Houston, Texas.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2104 Filed 1-28-02; 8:45 am]

BILLING CODE 6717-01-P